DEPARTMENT OF EDUCATION

[Docket No.: ED-2019-ICCD-0113]

Agency Information Collection Activities; Submission to the Office of Management and Budget for Review and Approval; Comment Request; International Study of Adult Skills and Learning (ISASL) [Program for the International Assessment of Adult Competencies (PIAAC) Cycle II] 2022 Field Test

AGENCY: National Center for Education Statistics (NCES), Department of Education (ED).

ACTION: Notice.

SUMMARY: In accordance with the Paperwork Reduction Act of 1995, ED is proposing a reinstatement of a previously approved information collection.

DATES: Interested persons are invited to submit comments on or before December 6, 2019.

ADDRESSES: To access and review all the documents related to the information collection listed in this notice, please use http://www.regulations.gov by searching the Docket ID number ED-2019-ICCD-0113. Comments submitted in response to this notice should be submitted electronically through the Federal eRulemaking Portal at http://www.regulations.gov by selecting the Docket ID number or via postal mail, commercial delivery, or hand delivery. If the regulations.gov site is not available to the public for any reason, ED will temporarily accept comments at ICDocketMgr@ed.gov. Please include the docket ID number and the title of the information collection request when requesting documents or submitting comments. Please note that comments submitted by fax or email and those submitted after the comment period will not be accepted. Written requests for information or comments submitted by postal mail or delivery should be addressed to the Director of the Strategic Collections and Clearance Governance and Strategy Division, U.S. Department of Education, 400 Maryland Ave. SW, LBJ, Room 6W208B, Washington, DC 20202-4537.

FOR FURTHER INFORMATION CONTACT: For specific questions related to collection activities, please contact Kashka Kubzdela, 202-245-7377 or email NCES.Information.Collections@ed.gov.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: International Study of Adult Skills and Learning (ISASL) [Program for the International Assessment of Adult Competencies (PIAAC) Cycle II] 2022 Field Test.

OMB Control Number: 1850-0870.

Type of Review: A reinstatement of a previously approved information collection.

Respondents/Affected Public: Individuals or Households.

Total Estimated Number of Annual Responses: 5,611.

Total Estimated Number of Annual Burden Hours: 1,258.

Abstract: The Program for the International Assessment of Adult Competencies (PIAAC) is a cyclical, large-scale study of adult skills and life experiences focusing on education and employment. PIAAC is an international study designed to assess adults in different countries over a broad range of abilities, from simple reading to complex problem-solving skills, and to collect information on individuals' skill use and background. PIAAC is coordinated by the Organization for Economic Cooperation and Development (OECD) and developed by participating countries with the support of the OECD. In the United States, the National Center for Education Statistics (NCES), within the U.S. Department of Education (ED) conducts PIAAC. The U.S. participated in the PIAAC Main Study data collection in 2012 and conducted national supplement data collections in 2014 and 2017. All three of these collections are part of PIAAC Cycle I. A new PIAAC cycle is to be conducted every 10 years, and PIAAC Cycle II Main Study data collection will be conducted from August 2021 through March 2022. In preparation for the main study collection, PIAAC Cycle II will begin with a Field Test in 2020, in which 34 countries are expected to participate with the primary goal of evaluating newly developed assessment and questionnaire items and to test the PIAAC 2022 planned operations. PIAAC 2022 defines four core competency domains of adult cognitive skills that are seen as key to facilitating the social and economic participation of adults in advanced economies: (1) Literacy, (2) numeracy, (3) reading and numeracy components, and (4) adaptive problem solving. The U.S. will administer all four domains of the PIAAC 2022 assessment to a nationally representative sample of adults, along with a background questionnaire with questions about their education background, work history, the skills they use on the job and at home, their civic engagement, and sense of their health and well-being. The results are used to compare the skills capacities of the workforce-aged adults in participating countries, and to learn more about relationships between educational background, employment, and other outcomes. In addition, in PIAAC 2022, a set of financial literacy questions will be included in the background questionnaire. As in Cycle I, a user-friendly name for PIAAC Cycle II was created—the International Study of Adult Skills and Learning (ISASL)—to represent the program to the public, and will be used on all public-facing materials and reports. As this international program is well-known within the federal and education research communities, we continue to use “PIAAC” in all internal and OMB clearance materials and communications, and use the “PIAAC” name throughout this submission; however all recruitment and communication materials refer to the study as ISASL. This request is to conduct the PIAAC Cycle II Field Test in April-June 2020.

Dated: November 1, 2019.
Stephanie Valentine,
PRA Coordinator, Strategic Collections and Clearance, Governance and Strategy Division, Office of Chief Data Officer.

[FR Doc. 2019-24215 Filed 11-5-19; 8:45 am]

BILLING CODE 4000-01-P